DEPARTMENT OF HOMELAND SECURITY

Federal Emergency Management Agency

44 CFR Part 67

Final Flood Elevation Determinations

AGENCY: Federal Emergency Management Agency (FEMA), Emergency Preparedness and Response Directorate, Department of Homeland Security.

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATES: The date of issuance of the Flood Insurance Rate Map (FIRM) showing base flood elevations and modified base flood elevations for each community. This date may be obtained by contacting the office where the maps are available for inspection as indicated on the table below.

ADDRESSES: The final base flood elevations for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate, has resolved any appeals resulting from this notification.

This final rule is issued in accordance with section 110 of the Flood Disaster Protection Act of 1973, 42 U.S.C. 4104, and 44 CFR part 67.

The Agency has developed criteria for floodplain management in floodprone areas in accordance with 44 CFR part 60.

Interested lessees and owners of real property are encouraged to review the proof Flood Insurance Study and Flood Insurance Rate Map available at the address cited below for each community.

The base flood elevations and modified base flood elevations are made final in the communities listed below. Elevations at selected locations in each community are shown.

National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification. This final rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of section 2(b)(2) of Executive Order 12778.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of Flooding and Location | #Depth in feet above ground. *Elevation in feet (NGVD) • Elevation in feet (NAVD)
TENNESSEE
Bristol (City), Sullivan County (FEMA Docket No. D-7564)
Beaver Creek:
Approximately 70 feet downstream of State Route 37 | • 1,436
Approximately 25 feet downstream of Moore Street | • 1,674
Back Creek:
At the confluence with Beaver Creek | • 1,450
Approximately 0.28 mile upstream of Sperry Road | • 1,450
Cedar Creek:
At the confluence with Beaver Creek | • 1,458
Approximately 0.24 mile downstream of Cedar Creek Road | • 1,458
Whitetop Creek:
At the confluence with Beaver Creek | • 1,448
Approximately 1.15 miles upstream of the confluence with Beaver Creek | • 1,448
Maps available for inspection at the City of Bristol Department of Development Services, Easley Annex Building, 104 8th Street, Bristol, Tennessee.
VIRGINIA
Bristol (City), Independent City (FEMA Docket No. D-7564)
Beaver Creek:
Approximately 0.05 mile upstream of the State boundary | • 1,672
Approximately 0.4 mile upstream of Forsythe Road | • 1,813
Susong Branch:
Just upstream of the first crossing of Bob Morrison Boulevard | • 1,672
Approximately 170 feet upstream of Euclid Avenue | • 1,683
Little Creek:
Just downstream of State Street | • 1,672
Approximately 0.76 mile upstream of the 2nd crossing of Commonwealth Avenue | • 1,722
Mumpower Creek:
Approximately 0.107 mile upstream of the confluence with Beaver Creek | • 1,688
Approximately 0.035 mile upstream of East Valley Drive | • 1,733
Maps available for inspection at the Bristol City Engineer's Office, 41 Piedmont, Bristol, Virginia.
WEST VIRGINIA
Reedy (Town), Roane County (FEMA Docket No. D-7564)
Reedy Creek:
Approximately 650 feet downstream of State Route 14 | *679
Approximately 170 feet downstream of the confluence of Left Fork Reedy Creek | *680
Left Fork Reedy Creek:
At the confluence with Reedy Creek | *681
Approximately 1,600 feet upstream of confluence with Reedy Creek | *681
Right Fork Reedy Creek:
At confluence with Reedy Creek | *680
At upstream corporate limits | *680
Maps available for inspection at the Reedy Town Water Office, 118 Main Street, Reedy, West Virginia.

(Catalog of Federal Domestic Assistance No. 83.100, “Flood Insurance.”)
Dated: October 15, 2003.
Anthony S. Lowe,
Mitigation Division Director, Emergency Preparedness and Response Directorate.

[FR Doc. 03-26828 Filed 10-23-03; 8:45 am]

BILLING CODE 6718-04-P